DEPARTMENT OF THE INTERIOR

Fish and Wildlife Service

[Docket No. FWS-R2-ES-2017-0036; FXES11130200000-178-FF02ENEH00]

Endangered and Threatened Wildlife and Plants; Mexican Wolf Draft Recovery Plan, First Revision

AGENCY: Fish and Wildlife Service, Interior.

ACTION: Notice of availability; request for comments.

SUMMARY: We, the U.S. Fish and Wildlife Service (Service), announce the availability of our Mexican Wolf (Canis lupus baileyi) Draft Recovery Plan, First Revision (draft recovery plan). The Mexican wolf is listed as endangered under the Endangered Species Act of 1973, as amended (Act), and is currently found in Arizona and New Mexico, in the United States, and in Chihuahua, Mexico. The draft recovery plan includes specific recovery criteria to be met to enable us to remove this species from the List of Endangered and Threatened Wildlife. The first Mexican wolf recovery plan was completed in 1982. We request review and comment on the revised plan from local, State, and Federal agencies; Tribes; and the public, in both the United States and Mexico. We will also accept any new information on the Mexican wolf's status throughout its range to assist in finalizing the recovery plan.

DATES: Comment submission: To ensure consideration, we must receive written comments on or before August 29, 2017. However, we will accept information about any species at any time.

Public meetings: We will hold information meetings to provide the public with information on the draft recovery plan. Written comments on the draft recovery plan may be submitted at these meetings (oral comments will not be recorded). The dates and times of these information meetings are as follows:

1. July 18, 2017 (6:00 p.m. to 9:00 p.m.): Flagstaff, Arizona.

2. July 19, 2017 (6:00 p.m. to 9:00 p.m.): Pinetop, Arizona.

3. July 20, 2017 (6:00 p.m. to 9:00 p.m.): Truth or Consequences, New Mexico.

4. July 22, 2017 (2:00 p.m. to 5:00 p.m.): Albuquerque, New Mexico.

ADDRESSES: Document availability: If you wish to review the draft recovery plan and related documents, you may obtain copies by any of the following methods:

Electronically: Go to http://www.regulations.gov and enter FWS-R2-ES-2017-0036.

U.S. mail: U.S. Fish and Wildlife Service, New Mexico Ecological Services Field Office, 2105 Osuna Road NE., Albuquerque, NM 87113; or

Telephone: (505) 346-2525.

Comment submission: If you wish to comment on the draft recovery plan, you may submit your comments in writing by either of the following methods:

Electronically: Go to http://www.regulations.gov and enter FWS-R2-ES-2017-0036.

Hard copy: Submit by U.S. mail or hand-delivery to: Public Comments Processing, Attn: FWS-R4-ES-2017-0036, U.S. Fish and Wildlife Service, MS: BPHC, 5275 Leesburg Pike, Falls Church, VA 22041-3803.

Public meetings: The locations of the information meetings discussed above in DATES are as follows:

1. Flagstaff: Northern Arizona University, Prochnow Auditorium, South Knowles Drive, Flagstaff, AZ 86001.

2. Pinetop: Hon-Dah Resort, Casino Banquet Hall, 777 AZ-260, Pinetop, AZ 85935.

3. Truth or Consequences: Ralph Edwards Auditorium, Civic Center, 400 West Fourth, Truth or Consequences, NM 87901.

4. Albuquerque: Crowne Plaza Albuquerque, 1901 University Boulevard NE., Albuquerque, NM 87102.

FOR FURTHER INFORMATION CONTACT: Sherry Barrett, Mexican Wolf Recovery Coordinator, 505-346-2525.

SUPPLEMENTARY INFORMATION:

Background

A primary goal of our endangered species program and the Act (16 U.S.C. 1531 et seq.) is endangered or threatened animals and plants recovering to the point where they are again secure, self-sustaining ecosystems members. Recovery means improving listed species' status to the point at which listing is no longer appropriate under the criteria set out in the Act, section 4(a)(1). The Act requires developing recovery plans for listed species, unless such a plan would not promote a particular species' conservation.

The Service has revised its approach to recovery planning; the revised process is called Recovery Planning and Implementation (RPI) (USFWS 09/21/2016). RPI is intended to reduce the time needed to develop and implement recovery plans, increase recovery plan relevancy over a longer timeframe, and add flexibility to recovery plans so they can be adjusted to new information or circumstances. Under RPI, a recovery plan will include statutorily required elements (measurable criteria, site-specific management actions, and estimates of time and costs), along with a concise introduction and our strategy for how we plan to achieve species recovery. The RPI recovery plan is supported by a separate Species Status Assessment (SSA), or in some cases, a species Biological Report, which provides the background information and threat assessment, which are key to recovery plan development. The essential component to flexible implementation under RPI is producing a separate working document called the Recovery Implementation Strategy (implementation strategy). The implementation strategy steps down from the more general description of actions described in the recovery plan to detail the near-term, specific activities needed to implement the recovery plan. The implementation strategy will be adaptable by being able to incorporate new information without having to concurrently revise the recovery plan, unless changes to statutory elements are required. The Mexican wolf implementation strategy document will be developed with partners at a later date. The Mexican Wolf Draft Recovery Plan, First Revision, represents one of the first products developed using RPI.

In addition to the recovery plan and implementation strategy, we have completed a biological report describing the Mexican wolf's current status. The biological report supports the recovery plan by providing the background, life-history, and threat assessment information. The biological report was independently peer-reviewed by scientists outside of the Service and is available at https://www.regulations.gov in Docket No. FWS-R2-ES-2017-0036, and also at our Web site: https://www.fws.gov/southwest/es/mexicanwolf/. As with the implementation strategy, we will regularly update the biological report as new species status information becomes available, without having to concurrently review the recovery plan.

Species History

The Mexican wolf was originally listed as an endangered subspecies on April 28, 1976 (41 FR 17736), but was subsumed into the listing for the gray wolf in the coterminous United States and Mexico in 1978 (43 FR 9607, March 9, 1978). The Mexican wolf is currently listed as an endangered subspecies throughout its range without critical habitat (80 FR 2488, January 16, 2015). The Mexican wolf is also listed as endangered by the Secretaría de Medio Ambiente y Recursos Naturales, or Federal Ministry of the Environment and Natural Resource (SEMARNAT 2010) in Mexico. Mexican wolves in Arizona and New Mexico are protected under State wildlife statutes as the gray wolf. In Arizona, the gray wolf is on the Arizona Game and Fish Department's list of “Species of Greatest Conservation Need.” In New Mexico, the gray wolf is listed as endangered.

In the United States, current Mexican wolf range includes portions of Arizona and New Mexico in an area designated as the Mexican Wolf Experimental Population Area (MWEPA) under the Act, section 10(j) (U.S. Fish and Wildlife Service 2016). The Service began releasing Mexican wolves from captivity into the MWEPA in 1998, marking the first Mexican wolf reintroduction since their extirpation in the late 1970s. As of 2016, there is a single population of at least 113 Mexican wolves in the MWEPA (U.S. Fish and Wildlife Service 2017). In Mexico, the current Mexican wolf range includes the northern portion of the Sierra Madre Occidental in the state of Chihuahua (López González 2017, pers. comm.). After Mexican wolves were extirpated from Mexico in the late 1970s to early 1980s, Mexico began reintroducing the subspecies from captivity back into the wild in 2011. In Mexico, as of April 2017, approximately 28 wolves inhabit the northern portion of the Sierra Madre Occidental Mountains in the state of Chihuahua (Garcia Chavez et al. 2017).

In addition to the wild populations, a Mexican wolf captive population is managed under the Mexican Wolf Species Survival Plan (SSP), administered by the Association of Zoos and Aquariums. The SSP is a binational captive-breeding program with the primary purpose of producing Mexican wolves for reintroduction in the United States and Mexico and conducting public education and research. The captive population is the sole source of Mexican wolves available to reestablish the species in the wild and is, therefore, an essential component of the Mexican wolf recovery effort.

The Mexican wolf is at risk of extinction in the wild primarily because of gunshot-related mortality, inbreeding, loss of heterozygosity, loss of adaptive potential, small population size, and the cumulative effects of the aforementioned threats (80 FR 2488, January 16, 2015). As a result of predator control and eradication efforts in the 20th century, the number of Mexican wolves declined rapidly (Mech and Boitani 2003), but with the capture of the last remaining Mexican wolves in the wild in Mexico, and subsequent addition of several wolves already in captivity, the United States and Mexico established a binational captive-breeding program with seven unrelated “founders.” As a result of this small number of founders, Mexican wolves face the aforementioned genetic challenges (U.S. Fish and Wildlife Service 2014).

Recovery Plan Strategy

The overall strategy for recovering the Mexican wolf focuses on improving the two populations' resilience (i.e., population size) and genetic representation, one in the MWEPA in the United States, and one in the northern portion of the Sierra Madre Occidental in Mexico, across an adequate ecological and geographic range of representation within each population. The strategy involves carefully managing the captive-breeding program, releasing Mexican wolves from the captive-breeding program into the wild, and translocating Mexican wolves from the MWEPA to Mexico, to ensure two genetically and demographically viable populations are extant in the wild for redundancy. In order to achieve the genetic criteria for downlisting and delisting the Mexican wolf in this Plan, the states of New Mexico and Arizona, and the Mexican government, will determine the timing, location and circumstances of releases of wolves into the wild within their respective states, and Mexico, from the captive population, with the Service providing collaborative logistical support and facilitation of those recovery actions.

Under this strategy, Mexican wolves will be managed to achieve an average population size, with an upper population size management boundary applied to the MWEPA that would allow all forms of management to ensure that population growth does not continue unchecked. The population in Mexico will not be managed with an upper boundary. Another key component of the strategy includes working with Federal, State, Tribal, and local partners, and the public, to improve Mexican wolf tolerance on the landscape.

Request for Public Comments

The Act, section 4(f), requires us to provide public notice and an opportunity for public review and comment during recovery plan development. Our policy is to also request peer review of recovery plans (59 FR 34270, July 1, 1994). We will summarize and respond to the issues the public and peer reviewers raise and make our responses available to the public. Substantive comments may or may not result in changes to the recovery plan; comments regarding recovery plan implementation will be forwarded as appropriate to Federal or other entities so that they can be taken into account during the course of implementing recovery actions. Pursuant to a court order, this recovery plan must be finalized by November 30, 2017.

We invite written comments on the draft recovery plan. In particular, we are interested in comments on the recovery strategy, recovery criteria, recovery actions, and the cost estimates associated with implementing the recommended recovery actions.

We make reference throughout the draft recovery plan to locations where more detailed information can be found. Information on the Mexican wolf's life-history needs, threats, current status and future projections, survey guidelines, and conservation efforts to date are detailed in a variety of separate documents, including the biological report the Service developed. These documents can be found at https://www.regulations.gov in Docket No. FWS-R2-ES-2017-0036 and also at our Web site: https://www.fws.gov/southwest/es/mexicanwolf/.

Before we approve our final recovery plan, we will consider all comments we receive by the date specified in DATES. You may submit your comments and materials concerning the draft recovery plan by one of the methods listed in ADDRESSES. We request that you send comments only by the methods described in ADDRESSES.

Public Availability of Comments

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive will be available, by appointment, for public inspection during normal business hours at our office (see ADDRESSES).

References Cited

A complete list of all references cited herein is available at https://www.regulations.gov in Docket No. FWS-R2-ES-2017-0036, on our Web site (https://www.fws.gov/southwest/es/mexicanwolf/), or upon request from the New Mexico Ecological Services Field Office (see FOR FURTHER INFORMATION CONTACT).

Authority

We developed our draft recovery plan under the authority of the Act, section 4(f), 16 U.S.C. 1533(f). We publish this notice under section 4(f) Endangered Species Act of 1973, as amended (16 U.S.C. 1531 et seq.).

Dated: June 20, 2017.
Benjamin N. Tuggle,
Regional Director, Southwest Region, U.S. Fish and Wildlife Service.

[FR Doc. 2017-13762 Filed 6-29-17; 8:45 am]

BILLING CODE 4333-15-P